NATIONAL FOUNDATION ON THE ARTS AND THE HUMANITIES

National Endowment for the Humanities

Meeting of Humanities Panel

AGENCY: National Endowment for the Humanities, National Foundation on the Arts and the Humanities.

ACTION: Notice of meeting.

SUMMARY: The National Endowment for the Humanities (NEH) will hold an additional seventeen meetings of the Humanities Panel, a federal advisory committee, during March and April 2019. NEH previously published notice in the Federal Register of twenty-seven Humanities Panel meetings to be held during March and April 2019. The purpose of the meetings is for panel review, discussion, evaluation, and recommendation of applications for financial assistance under the National Foundation on the Arts and Humanities Act of 1965.

DATES: See SUPPLEMENTARY INFORMATION for meeting dates. The meetings will open at 8:30 a.m. and will adjourn by 5:00 p.m. on the dates specified below.

ADDRESSES: The meetings will be held at Constitution Center at 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. DATE: March 21, 2019

This meeting will discuss applications on the topics of Archaeology, Anthropology, and Indigenous Collections, for the Sustaining Cultural Heritage Collections grant program, submitted to the Division of Preservation and Access.

2. DATE: March 22, 2019

This meeting will discuss applications on the topic of University Art Museums, for the Sustaining Cultural Heritage Collections grant program, submitted to the Division of Preservation and Access.

3. DATE: March 28, 2019

This meeting will discuss applications for the Landmarks of American History and Culture Workshops: Landmarks of American History grant program, submitted to the Division of Education Programs.

4. DATE: March 28, 2019

This meeting will discuss applications on the topics of History Museums and Historic Houses, for the Sustaining Cultural Heritage Collections grant program, submitted to the Division of Preservation and Access.

5. DATE: March 29, 2019

This meeting will discuss applications on the topics of Libraries, Archives, and Special Collections, for the Sustaining Cultural Heritage Collections grant program, submitted to the Division of Preservation and Access.

6. DATE: April 2, 2019

This meeting will discuss applications on the topic of Historical Societies, for the Sustaining Cultural Heritage Collections grant program, submitted to the Division of Preservation and Access.

7. DATE: April 2, 2019

This meeting will discuss applications for the Landmarks of American History and Culture Workshops: Landmarks of American History grant program, submitted to the Division of Education Programs.

8. DATE: April 3, 2019

This meeting will discuss applications on the topic of Art Museums, for the Sustaining Cultural Heritage Collections grant program, submitted to the Division of Preservation and Access.

9. DATE: April 4, 2019

This meeting will discuss applications for the Landmarks of American History and Culture Workshops: Landmarks of American History grant program, submitted to the Division of Education Programs.

10. DATE: April 10, 2019

This meeting will discuss applications for the Summer Seminars and Institutes: Institutes for School Teachers grant program, submitted to the Division of Education Programs.

11. DATE: April 10, 2019

This meeting will discuss applications for the Summer Seminars and Institutes: Institutes for School Teachers grant program, submitted to the Division of Education Programs.

12. DATE: April 11, 2019

This meeting will discuss applications for the Summer Seminars and Institutes: Institutes for School Teachers grant program, submitted to the Division of Education Programs.

13. DATE: April 11, 2019

This meeting will discuss applications for the Summer Seminars and Institutes, submitted to the Division of Education Programs.

14. DATE: April 12, 2019

This meeting will discuss applications for the Summer Seminars and Institutes: Institutes for College and University Teachers grant program, submitted to the Division of Education Programs.

15. DATE: April 15, 2019

This meeting will discuss applications for the Summer Seminars and Institutes: Institutes for College and University Teachers grant program, submitted to the Division of Education Programs.

16. DATE: April 15, 2019

This meeting will discuss applications for the Summer Seminars and Institutes: Institutes for School Teachers grant program, submitted to the Division of Education Programs.

17. DATE: April 16, 2019

This meeting will discuss applications for the Summer Seminars and Institutes: Institutes for College and University Teachers grant program, submitted to the Division of Education Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: March 8, 2019.
Elizabeth Voyatzis,
Committee Management Officer, National Endowment for the Humanities.

[FR Doc. 2019-04700 Filed 3-13-19; 8:45 am]

BILLING CODE 7536-01-P